DEPARTMENT OF DEFENSE

Defense Acquisition Regulations System

48 CFR Chapter 2

[Docket DARS-2016-0001]

RIN 0750-AI83

Defense Federal Acquisition Regulation Supplement: Instructions for the Wide Area WorkFlow Reparable Receiving Report (DFARS Case 2016-D004)

AGENCY: Defense Acquisition Regulations System, Department of Defense (DoD).

ACTION: Final rule.

SUMMARY: DoD is amending the Defense Federal Acquisition Regulation Supplement (DFARS) to add instructions for utilizing the Wide Area WorkFlow Reparable Receiving Report.

DATES: Effective September 29, 2016.

FOR FURTHER INFORMATION CONTACT: Mr. Tom Ruckdaschel, telephone 571-372-6088.

SUPPLEMENTARY INFORMATION:

I. Background

DoD published a proposed rule in the Federal Register at 81 FR 17051 on March 25, 2016, to revise appendix F of the DFARS to add instructions for the use, preparation, and distribution of the Wide Area WorkFlow (WAWF) Reparable Receiving Report (RRR). One respondent submitted a public comment in response to the proposed rule.

II. Discussion and Analysis

DoD reviewed the public comment in the development of the final rule. A discussion of the comment received follows:

A. Summary of Significant Changes From the Proposed Rule

There were no significant changes made from the proposed rule.

B. Analysis of Public Comment

Comment: Consider removing or revising the requirement for dollars to be included on every receiving report (RR) in the WAWF iRAPT (Invoice, Receipt, Acceptance, and Property Transfer) application. Many scenarios occur in which it is not a viable option to list a dollar value on a RR such as nonseparately priced items or partial shipments where a value may not be assessed.

Response: This comment is outside the scope of this rule. The requirement to record a unit price on the WAWF RRR is in accord with preexisting DFARS language.

III. Applicability to Contracts at or Below the Simplified Acquisition Threshold and for Commercial Items, Including Commercially Available Off-the-Shelf Items

This case does not add any new provisions or clauses or impact any existing provisions or clauses.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

V. Regulatory Flexibility Act

DoD does not expect this rule to have a significant economic impact on a substantial number of small entities within the meaning of the Regulatory Flexibility Act, 5 U.S.C. 601, et seq. However, a final regulatory flexibility analysis has been performed and is summarized as follows:

This rule amends the Defense Federal Acquisition Regulation Supplement (DFARS) appendix F to add the instructions for utilizing the Wide Area WorkFlow (WAWF) Reparable Receiving Report (RRR).

The objective of the rule is to provide the instruction for the use, preparation, and distribution of WAWF RRR that has been created to differentiate between the deliveries of new Government assets (new procurements) and the return of Government property that are repaired or overhauled. This rule improves reporting efficiency by eliminating manual intervention that is currently required to ensure accurate information flow between different Government property reporting systems.

No significant issues were raised by the public comments in response to the initial regulatory flexibility analysis.

The number of small entities affected is unknown. However, DoD expects this rule to have a positive economic impact on contractors, including small businesses, because of the improved efficiency due to electronic report submission.

The projected recordkeeping and reporting is unchanged from current requirements, and only the method of submitting the reports for the return of Government property that has been repaired or overhauled has changed. Preparation of these records requires clerical and analytical skills to create the electronic documents in the WAWF system.

There are no known significant alternatives to the rule. The impact of this rule on small business is not expected to be significant.

VI. Paperwork Reduction Act

The rule contains information collection requirements that require the approval of the Office of Management and Budget under the Paperwork Reduction Act (44 U.S.C. chapter 35). However, these changes to the DFARS do not impose additional information collection requirements to the paperwork burden previously approved under OMB Control Number 0704-0248 entitled “Material Inspection and Receiving Report”. The projected recordkeeping and reporting is unchanged from current requirements, and only the method of submitting the reports for the return of Government property that has been repaired or overhauled has changed.

List of Subjects in 48 CFR Appendix F to Chapter 2

Government procurement.

Jennifer L. Hawes,
Editor, Defense Acquisition Regulations System.

Therefore, 48 CFR chapter 2, subchapter I, is amended in appendix F as follows:

CHAPTER 2—DEFENSE ACQUISITION REGULATIONS SYSTEM, DEPARTMENT OF DEFENSE

1. The authority citation for appendix F to chapter 2 continues to read as follows:

Authority: 41 U.S.C. 1303 and 48 CFR chapter 1.

2. Amend appendix F to chapter 2 by:

a. In section F-101, paragraph (a)—

i. Removing “(WAWF) Receiving Report” and adding “(WAWF) Receiving Report (RR), WAWF Reparable Receiving Report (WAWF RRR)” in its place; and

ii. Adding a sentence at the end of the paragraph;

b. In section F-103—

i. In paragraphs (a) introductory text, (a)(6), (b) introductory text, and (c), removing “WAWF RR” and adding “WAWF RR, WAWF RRR,” in each place;

ii. In paragraph (e), removing “WAWF RR provides” and adding “WAWF RR and WAWF RRR provide” in its place; and

iii. Adding paragraph (e)(3);

c. In section F-104, redesignating paragraph (b) as paragraph (c) and adding a new paragraph (b);

d. Revising the part 3 heading;

e. In section F-301, revising paragraph (b)(15)(ii) and paragraph (b)(18) introductory text;

f. In section F-303, removing “WAWF RR” and adding “WAWF RR or WAWF RRR” in its place;

g. Revising section F-304; and

h. In section F-306, revising the introductory text and paragraph (a).

The additions and revisions read as follows:

Appendix F to Chapter 2—Material Inspection and Receiving Report

* * * * *

F-101 General.

(a) * * * The WAWF RRR is the electronic equivalent of the DD Form 250 for repair, maintenance, or overhaul of Government-furnished property.

* * * * *

F-103 Use.

* * * * *

(e) * * *

(3) Reporting of Government-furnished property, when the clause at DFARS 252.211-7007, Reporting of Government-Furnished Property, is used in the contract, use of the WAWF RRR will capture the shipment of Government-furnished property items after acceptance of repair services and forward the data to the IUID registry. WAWF is the only way a contractor can report the transfer of Government-furnished property items in the IUID registry.

F-104 Application.

(a) * * *

(b) WAWF RRR or DD Form 250. Use as in paragraph (a) of this section for delivery of services for repair, overhaul, or maintenance.

* * * * *

PART 3—PREPARATION OF THE WIDE AREA WORKFLOW (WAWF) RECEIVING REPORT (RR), WAWF REPARABLE RECEIVING REPORT (WAWF RRR), AND WAWF ENERGY RR

F-301 Preparation Instructions.

* * * * *

(b) * * *

(15) * * *

(ii) For service line items, select SV for “SERVICE” in the type field followed by as short a description as is possible in the description field. Some examples of service line items are maintenance, repair, alteration, rehabilitation, engineering, research, development, training, and testing.

(A) For WAWF RRRs, the “Ship To” code is the DoDAAC, MAPAC, or CAGE code from the contract or shipping instructions.

(B) For service line items not using a WAWF RRR, the “Ship To” code and the “Unit” shall be filled out. The “Ship To” code is the destination Service Acceptor Code for WAWF. If source inspected and accepted, enter the service performance location as the “Ship To” code.

* * * * *

(18) Unit Price. The contractor shall enter unit prices on all WAWF RR copies. When using the WAWF RRR, the unit price is the price of the repair, overhaul, or maintenance service from the contract.

* * * * *

F-304 Correction instructions.

Functionality for correcting a WAWF RR or WAWF RRR is available for Defense Contract Management Agency administered contracts paid using the Mechanization of Contract Administration Services system with source acceptance. Preparation instructions and training for corrections is available at https://wawftraining.eb.mil. The instructions are part of the Vendor Training section.

* * * * *

F-306 Packing list instructions.

Contractors may also use a WAWF processed RR, including the WAWF RRR, as a packing list. WAWF provides options to print the RR. These printed RRs may also be used if a signed copy is required.

(a) WAWF provides a print capability for its RR. The WAWF printed RR can be identified by its distinctive format and by the text title at the top of each printed page “Material Inspection and Receiving Report in accordance with DFARS Appendix F. Paper DD Form 250 is usable in lieu of this document on an exception basis.” (See DFARS 252.232-7003(c)). This printed copy can be used as a packing list. If needed, the signature can be verified by reviewing the signed RR in WAWF.

* * * * *

[FR Doc. 2016-20474 Filed 8-29-16; 8:45 am]

BILLING CODE 5001-06-P